DEPARTMENT OF TRANSPORTATION

Federal Aviation Administration

[Policy Statement No. ANM-03-117-09]

Policy Statement on Guidance for Determination of System, Hardware, and Software Development Assurance Levels on Transport Category Airplanes

AGENCY: Federal Aviation Administration (FAA), DOT.

ACTION: Notice of cancellation of policy statement.

SUMMARY: The Federal Aviation Administration (FAA) announces the cancellation of Policy Statement Number ANM-03-117-09. The policy statement is cancelled because it was superseded by an advisory circular (AC) and is no longer necessary.

DATES: This policy statement is cancelled on March 11, 2016.

FOR FURTHER INFORMATION CONTACT: Linh Le, Federal Aviation Administration, Transport Airplane Directorate, Transport Standards Staff, Safety Management Branch, 1601 Lind Avenue SW., Renton, WA 98057-3356; telephone (425) 227-1105; fax (425) 227-1320; email: linh.le@faa.gov.

SUPPLEMENTARY INFORMATION:

Background

On January 15, 2004, the Transport Airplane Directorate, Aircraft Certification Service, issued Policy Statement Number ANM-03-117-09, Policy Statement on Guidance for Determination of System, Hardware, and Software Development Assurance Levels on Transport Category Airplanes. This policy statement standardized the methodology for assigning development assurance levels (DAL) to systems, software, and complex electronic hardware.

In December 2010, the Society of Automotive Engineers (SAE) issued the document, Aerospace Recommended Practice (ARP) 4754A, Guidelines for Development of Civil Aircraft and Systems, as an acceptable method for establishing a development assurance process. This document contains an updated methodology for DAL assignment. In developing ARP 4754A, SAE considered the subject policy statement, with inputs and guidance from the FAA. In September 2011, the FAA issued AC 20-174, Development of Civil Aircraft and Systems, to formally recognize ARP 4754A and the DAL assignment methodology contained therein. The Transport Airplane Directorate determined that AC 20-174 and ARP 4754A provide an acceptable DAL assignment methodology for part 25 airplanes. To ensure correct understanding of the Transport Airplane Directorate's current policy for DAL assignments, the FAA is cancelling the subject policy, in favor of AC 20-174.

Cancellation of Policy Statement

As a result of the issuance of AC 20-174, Policy Statement Number ANM-03-117-09 is no longer in effect and is herewith cancelled.

Issued in Renton, Washington, on March 1, 2016.
Michael Kaszycki,
Acting Manager, Transport Airplane Directorate, Aircraft Certification Service, ANM-100.

[FR Doc. 2016-05529 Filed 3-10-16; 8:45 am]

BILLING CODE 4910-13-P